DEPARTMENT OF HEALTH AND HUMAN SERVICES

National Institutes of Health

Office of Biotechnology Activities; Recombinant DNA Research: Proposed Actions Under the NIH Guidelines

AGENCY: National Institutes of Health (NIH), HHS.

ACTION: Notice, correction.

SUMMARY: In a proposed action to amend the membership provisions of the NIH Guidelines for Research Involving Recombinant DNA Molecules (NIH Guidelines) published August 24, 2001 (66 FR 44638-44640), a truncated URL was provided for access to the RAC charter under the proposed amendments to Section IV-C-2. The correct URL is http://www4.od.nih.gov/oba/rac/RACCharter.htm.

FOR FURTHER INFORMATION: Contact OBA by e-mail at oba@od.nih.gov, telephone at 301-496-9838, or fax to 301-496-9839.

Correction

1. Section IV-C-2 should read, “The RAC membership and procedures, in addition to those set forth in the NIH Guidelines, are specified in the charter for the RAC, which is filed as provided in the General Services Administration Federal Advisory Committee Management regulations, 41 CFR parts 101-6 and 102-3, and is available on the OBA website, http://www4.od.nih.gov/oba/rac/RACCharter.htm.”

Dated: August 30, 2001.
Sarah Carr,
Acting Director, NIH Office of Biotechnology Activities.

[FR Doc. 01-22476 Filed 9-6-01; 8:45 am]

BILLING CODE 4140-01-P